DEPARTMENT OF TRANSPORTATION

Federal Aviation Administration

Agency Information Collection Activity Under OMB Review

AGENCY: Federal Aviation Administration (FAA), DOT

ACTION: Notice.

SUMMARY: In compliance with the Paperwork Reduction Act of 1995 (44 U.S.C. 3501 et seq.), this notice announces that the two Information Collection Requests (ICRs) abstracted below have been forwarded to the Office of Management and Budget (OMB) for extension of the currently approved collections. The ICRs describe the nature of the information collections and the expected burden. The Federal Register Notices with a 60-day comment period soliciting comments on the following collections of information were published on March 28, 2002 on page 14999.

DATES: Comments must be submitted on or before August 9, 2002. A comment to OMB is most effective if OMB receives it within 30 days of publication.

ADDRESSES: Send comments to the Office of Information and Regulatory Affairs, Office of Management and Budget, 725 17th Street, NW., Washington, DC 20503, Attention FAA Desk Officer.

FOR FURTHER INFORMATION CONTACT: Judy Street on (202) 267-9895.

SUPPLEMENTARY INFORMATION:

Federal Aviation Administration (FAA)

1. Title: Exemptions for Air Taxi and Commuter Air Carrier Operations.

Type of Request: Extension of a currently approved collection.

OMB Control Number: 2120-0633.

Forms(s): OST Form 4507.

Affected Public: A total of 2,059 air carriers.

Abstract: The information collected is used to determine whether or not an air taxi operation meets the Department's criteria for an operating authorization under 14 CFR Part 298. OST Form 4507 requires the air taxi to identify the aircraft it will use in its operation so that the FAA can assure that liability insurance exists for the aircraft. Also, airworthiness checks take place on the aircraft before the carrier is allowed to operate.

Estimated Annual Burden Hours: An estimated 1,026 hours annually.

2. Title: Enhanced Security Procedures at Certain Airports, Washington, DC Area.

Type of Request: Extension of a currently approved collection.

OMB Control Number: 2120-0677.

Forms(S): NA.

Affected Public: A total of 444 aircraft operators.

Abstract: This rule established security measures and air traffic control procedures that permit three Maryland airports (Potomac, Hyde, and College Park) to resume normal flight operations, small business operations and private pilot operations at each of these locations.

Estimated Annual Burden Hours: An estimated 8,269 hours annually.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Dated: Issued in Washington, DC, on July 1, 2002.
Judith D. Street,
FAA Information Collection Clearance Officer, Standards and Information Division, APF-100.

[FR Doc. 02-17365 Filed 7-9-02; 8:45 am]

BILLING CODE 4910-13-M